NUCLEAR REGULATORY COMMISSION

[Docket No. 72-9 NRC-2010-0188]

Notice of Issuance of Renewed Materials License No. SNM-2504; Department of Energy; Fort St. Vrain Independent Spent Fuel Storage Installation

AGENCY: Nuclear Regulatory Commission.

ACTION: Notice of renewal of license.

FOR FURTHER INFORMATION CONTACT: Christopher Staab, Project Manager, Division of Spent Fuel Storage and Transportation, Office of Nuclear Material Safety and Safeguards, U.S. Nuclear Regulatory Commission, Washington, D.C. 20555. Telephone: 301-492-3321; fax number: 301-492-3342; e-mail: Christopher.Staab@nrc.gov.

SUPPLEMENTARY INFORMATION:

I. Introduction

The U.S. Nuclear Regulatory Commission (NRC or the Commission) has issued renewed Materials License No. SNM-2504 to the Department of Energy (DOE) for the receipt, possession, transfer, and storage of spent fuel at the Fort St. Vrain (FSV) Independent Spent Fuel Storage Installation (ISFSI), located in Weld County, Colorado. The renewed license authorizes operation of the FSV ISFSI in accordance with the provisions of the renewed license and its Technical Specifications. The renewed license expires on November 30, 2031.

II. Background

By application dated November 10, 2009, as supplemented by DOE letter dated December 23, 2010, DOE requested renewal of its operating license for the FSV ISFSI. DOE requested the renewal of the original ISFSI license for a renewal period of 20 years.

III. Findings

The application for the renewed license complies with the standards and requirements of the Atomic Energy Act of 1954 (the Act), as amended, and the Commission's regulations. The Commission has made appropriate findings as required by the Act and the Commission's rules and regulations in Title 10 of the Code of Federal Regulations, Chapter 1, which are set forth in the license. Public notice of the proposed action and opportunity for hearing regarding the proposed issuance of the renewed license was published in the Federal Register on May 28, 2010 (75 FR 30075).

FOR FURTHER INFORMATION CONTACT: Supporting documentation is available for inspection online in the NRC Library at: http://www.nrc.gov/reading-rm/adams.html. A copy of the license application, dated November 10, 2009, and the staff's Environmental Assessment, dated May 25, 2011, can be found at this site using the Agencywide Documents Access and Management System (ADAMS) Accession Numbers ML093230788 and ML111110339. The staff Notice of Availability of Environmental Assessment and Finding of No Significant Impact for this action was published in the Federal Register on May 25, 2011 (76 FR 30399).

Dated at Rockville, Maryland, this 21st day of July, 2011.
For the Nuclear Regulatory Commission.
Michael D. Waters,
Chief, Licensing Branch, Division of Spent Fuel Storage and Transportation, Office of Nuclear Material Safety and Safeguards.

[FR Doc. 2011-19487 Filed 8-1-11; 8:45 am]

BILLING CODE 7590-01-P